DEPARTMENT OF DEFENSE

Office of the Secretary

[Transmittal No. 24-48]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-48, Policy Justification, and Sensitivity of Technology.

Dated: December 10, 2025.
Stephanie J. Bost,
Alternate OSD Federal Register Liaison Officer, Department of Defense.

BILLING CODE 6001-FR-P

BILLING CODE 6001-FR-C

Transmittal No. 24-48

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ .86 billion
Other | $ .30 billion
TOTAL | $1.16 billion

Funding Source: National Funds

(iii) Description and Quantity or Quantities of Articles or Services under Consideration for Purchase: The Taipei Economic and Cultural Representative Office in the United States (U.S.) has requested to buy three (3) National Advanced Surface-to-Air Missile System (NASAMS) medium-range air defense solutions that include:

Major Defense Equipment (MDE):

Three (3) AN/MPQ-64F1 Sentinel radar systems

One hundred twenty-three (123) Advanced Medium-Range Air-to-Air Missiles-Extended Range (AMRAAM-ER)

Two (2) AMRAAM-C8 guidance sections

Four (4) Multifunctional Information Distribution Systems (MIDS)

Non-MDE:

Also included are fire distribution centers (FDC); Canister Launcher Systems (CLS); electro-optical/infrared (E.O./IR) systems; Tactical Control Center (TCC) systems; FDC indoor training simulator; radar communication nodes; MIDS Link 16-capable radios; IPS 250X High Assurance internet Protocol Encryptions (HAIPE); KIV-77 Identification Friend-or-Foe (IFF) Crypto Applique; AN/PSN-13 Defense Advanced Global Positioning System (GPS) receivers (DAGR) with Selective Availability Anti-Spoofing Module (SAASM); AN/PYQ-10 Simple Key Loaders (SKL), code loaders, and cable sets; AIM-120 control sections and containers; AMRAAM and AMRAAM-ER Captive Air Training Missiles (CATMs); AIM-120ER load trainers; weapon system support and support equipment; spare parts, consumables, accessories and repair and return support; classified software; classified and unclassified publications and technical documentation; studies and surveys; U.S. Government and contractor technical support, engineering and logistics support services; warranty services; Systems Integration and Checkout (SICO); and other related elements of logistics and program support.

(iv) Military Department: Army (TW-B-ZEI); Air Force (TW-D-YAE); Navy (TW-P-GQG)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: October 25, 2024

* as defined in Section 47(6) of the Arms Export Control Act.

POLICY JUSTIFICATION

Taipei Economic and Cultural Representative Office in the United States—National Advanced Surface-to-Air Missile System

The Taipei Economic and Cultural Representative Office in the U.S. has requested to buy three (3) National Advanced Surface-to-Air Missile System (NASAMS) medium-range air defense solutions, that include: three (3) AN/MPQ-64F1 Sentinel radar systems; one hundred twenty-three (123) Advanced Medium-Range Air-to-Air Missiles-Extended Range (AMRAAM-ER); two (2) AMRAAM-C8 guidance sections; and four (4) Multifunctional Information Distribution Systems (MIDS). Also included are fire distribution centers (FDC); Canister Launcher Systems (CLS); electro-optical/infrared (E.O./IR) systems; Tactical Control Center (TCC) systems; FDC indoor training simulator; radar communication nodes; MIDS Link 16-capable radios; IPS 250X High Assurance internet Protocol Encryptions (HAIPE); KIV-77 Identification Friend-or-Foe (IFF) Crypto Applique; AN/PSN-13 Defense Advanced Global Positioning System (GPS) receivers (DAGR) with Selective Availability Anti-Spoofing Module (SAASM); AN/PYQ-10 Simple Key Loaders (SKL), code loaders and cable sets; AIM-120 control sections and containers; AMRAAM and AMRAAM-ER Captive Air Training Missiles (CATMs); AIM-120ER load trainers; weapon system support and support equipment; spare parts, consumables, accessories and repair and return support; classified software; classified and unclassified publications and technical documentation; studies and surveys; U.S. Government and contractor technical support, engineering and logistics support services; warranty services; Systems Integration and Checkout (SICO); and other related elements of logistics and program support. The total estimated cost is $1.16 billion.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's capability to meet current and future threats by contributing to the recipient's abilities to defend its airspace, provide regional security, and increase interoperability with the United States through its NASAMS program. The recipient will have no difficulty absorbing this equipment into its armed forces.

The proposed sale of this equipment and support will not alter the basic military balance in the region.

The principal contractor will be Raytheon, located in Andover, MA. There are no known offset agreements proposed in connection with this potential sale.

Implementation of this proposed sale will require the assignment of approximately twenty-six U.S. Government and thirty-four contractor representatives to travel to the recipient for an extended period for equipment de-processing and fielding, system checkout, training, and technical and logistics support.

There will be no adverse impact on U.S. defense readiness as a result of this proposed sale.

Transmittal No. 24-48

Notice of Proposed Issuance of Letter of Offer Pursuant to Section 36(b)(1) of the Arms Export Control Act

Annex

Item No. vii

(vii) Sensitivity of Technology:

1. The National Advanced Surface-to-Air Missile System (NASAMS) medium range air defense solution consists of NASAMS, the Sentinel radar, the fire distribution center (FDC), the AIM-120 Advanced Medium Range Air-to-Air Missile (AMRAAM), and the AMRAAM-Extended Range (AMRAAM-ER) missile. The NASAMS is designed for mid-range air defense and can be deployed to engage fixed wing and rotary wing aircraft, cruise missiles, and unmanned aerial systems (UASs).

2. The NASAMS Fire Unit consists of one fire distribution center (FDC); one AN/MPQ-64F1 Sentinel surveillance, acquisition, and tracking radar; three truck-mounted canister launchers with six AMRAAM missiles each; and one truck-mounted electrical optical/infrared (E.O./IR) sensor system for visual target identification and raid size assessment.

3. The command-and-control entity, FDC, is the major operator interface in NASAMS. It provides all command-and-control functionality necessary to effectively conduct air defense missions, both in a stand-alone (autonomous) configuration as well as in a netted configuration integrated to other units. The FDC interfaces and controls the MPQ-64F1 Sentinel radar, the E.O./IR sensor, and the canister launchers. In addition, it interfaces and sends commands to any connected very short-range air defense (VSHORAD) Stinger platforms. The FDC also interfaces voice and data to the national command and control structure.

4. The AN/MPQ-64F1 Sentinel radar is the organic, mobile air defense acquisition and tracking sensor for the U.S. Army. Sentinel provides persistent air surveillance and fire control quality data through command-and-control systems.

5. The canister launcher (LCHR) is to transport, aim, and fire the U.S. Air Force AMRAAM and AMRAAM-ER missiles. Under the remote control of the FDC, the launcher permits rapid launching of one or more missiles against single or multiple targets and can support 6 engagements simultaneously. The launcher provides 360-degree, all weather, day and night missile launch capability.

6. The E.O./IR sensor system is optimized for use in ground-based air defense and is proven and fielded for several NASAMS users. The sensor system offers a full day-night capability and includes an advanced high-performance TV camera, a 3rd-Generation infrared camera, and an eye-safe laser rangefinder.

7. The AIM-120C Advanced Medium Range Air-to-Air Missile (AMRAAM) is a radar-guided missile featuring digital technology and micro-miniature solid-state electronics. The AMRAAM's capabilities include look-down/shoot-down, multiple launches against multiple targets, resistance to electronic counter measures, and interception of high flying and low flying and maneuvering targets. AMRAAM Captive Air Training Missiles (CATMs) are non-functioning, inert missile rounds used for armament load training, which also simulate the correct weight and balance of live missiles during captive carry-on training sorties. Although designed as an air-to-air missile, the AMRAAM can also be employed in a surface-launch mode when integrated on systems such as NASAMS.

8. The AMRAAM-ER missiles have the same capability and sensitivity of technology as the AMRAAM missiles but have with a larger rocket motor to allow them to travel farther.

9. The Multifunction Information Distribution System (MIDS) is a secure data and voice communication network that uses the Link-16 architecture. The system provides enhanced situational awareness, positive identification of participants within the network, and secure voice capability. The system provides the critical ground link for simultaneous coordination of air, land, and maritime forces.

10. The highest level of classification of defense articles, components, and services included in this potential sale is SECRET.

11. If a technologically advanced adversary were to obtain knowledge of the specific hardware and software elements, the information could be used to develop countermeasures that might reduce weapon system effectiveness or be used in the development of a system with similar or advanced capabilities.

12. A determination has been made that the recipient can provide substantially the same degree of protection for the sensitive technology being released as the U.S. Government. This sale is necessary in furtherance of the U.S. foreign policy and national security objectives outlined in the Policy Justification.

13. All defense articles and services listed in this transmittal have been authorized for release and export to the recipient.

[FR Doc. 2025-22709 Filed 12-12-25; 8:45 am]

BILLING CODE 6001-FR-P